SECURITIES AND EXCHANGE COMMISSION

[Release No. 34-75723; File No. SR-BATS-2015-60]

Self-Regulatory Organizations; BATS Exchange, Inc.; Notice of Filing and Immediate Effectiveness of a Proposed Rule Change Related to Fees for Use of BATS Exchange, Inc.

August 18, 2015.

Pursuant to section 19(b)(1) of the Securities Exchange Act of 1934 (the “Act”),¹ and Rule 19b-4 thereunder,² notice is hereby given that on August 7, 2015, BATS Exchange, Inc. (the “Exchange” or “BATS”) filed with the Securities and Exchange Commission (“Commission”) the proposed rule change as described in Items I, II and III below, which Items have been prepared by the Exchange. The Exchange has designated the proposed rule change as one establishing or changing a member due, fee, or other charge imposed by the Exchange under section 19(b)(3)(A)(ii) of the Act ³ and Rule 19b-4(f)(2) thereunder,⁴ which renders the proposed rule change effective upon filing with the Commission. The Commission is publishing this notice to solicit comments on the proposed rule change from interested persons.

¹ 15 U.S.C. 78s(b)(1).

² 17 CFR 240.19b-4.

³ 15 U.S.C. 78s(b)(3)(A)(ii).

⁴ 17 CFR 240.19b-4(f)(2).

I. Self-Regulatory Organization's Statement of the Terms of Substance of the Proposed Rule Change

The Exchange filed a proposal to amend the fee schedule applicable to Members ⁵ and non-members of the Exchange pursuant to BATS Rules 15.1(a) and (c) (“Fee Schedule”) to remove fees for BATS Investor Pro and BATS Investor RT, as the Exchange will no longer make these products available as of August 29, 2015.

⁵ The term “Member” is defined as “any registered broker or dealer that has been admitted to membership in the Exchange.” See Exchange Rule 1.5(n).

The text of the proposed rule change is available at the Exchange's Web site at www.batstrading.com, at the principal office of the Exchange, and at the Commission's Public Reference Room.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant parts of such statements.

A. Self-Regulatory Organization's Statement of the Purpose of, and Statutory Basis for, the Proposed Rule Change

1. Purpose

The Exchange proposes to remove fees for BATS Investor Pro and BATS Investor RT, as the Exchange will no longer make these products available as of August 29, 2015. The Exchange currently maintains a revenue sharing program with Interactive Data Corporation, acting by and through its division, Interactive Data Desktop Solutions, and its subsidiary, Interactive Data Online Properties, Inc. (collectively “IDC”), whereby the Exchange has agreed to make available, through IDC, private labeled versions of IDC's Market-Q and LiveCharts products (the “Revenue Sharing Program”).⁶ Pursuant to an agreement (the “Agreement”) between IDC and the Exchange, Market-Q has been marketed by the Exchange under the private label name “BATS Investor Pro” and LiveCharts has been marketed by the Exchange under the private label name “BATS Investor RT” (BATS Investor Pro and BATS Investor RT, collectively, the “Private Labeled Products”). Under the Agreement, the current price schedule charges subscribers a monthly fee of $125.00 for BATS Investor Pro and a monthly fee of $24.95 for BATS Investor RT.⁷

⁶ See Securities Exchange Act Release Nos. 70264 (August 27, 2013), 78 FR 54338 (September 3, 2013) (SR-BATS-2013-045); and 70687 (October 15, 2013), 78 FR 62921 (October 22, 2013) (SR-BATS-2013-055).

⁷ Under the Agreement, IDC determines the price schedule for the Private Labeled Products, and has the right to change the price schedule at any time in its sole discretion upon prior notice to BATS; provided, however, that such changes to the price schedule do not become effective unless and until the applicable fees set forth in the price schedule have been filed with and/or approved by the Commission through a proposed rule change submitted by the Exchange in accordance with the Act.

Pursuant to and in accordance with the terms and conditions of the Agreement, on July 24, 2015, the Exchange provided written notice of termination of the Agreement to IDC, effective as of August 29, 2015. Therefore, inclusion of the Private Labeled Products within Exchange's Fee Schedule would no longer serve any legitimate purpose upon the Revenue Sharing Program being terminated by the Exchange. The Exchange is terminating the Revenue Share Program with IDC due to lack of interest from data recipients for the Private Labeled Products. Currently, there are no active clients for either Private Labeled Product.

Implementation Date

The Exchange proposes to implement these amendments to its Fee Schedule on August 31, 2015.

2. Statutory Basis

The Exchange believes that the proposed rule change is consistent with the objectives of section 6 of the Act,⁸ in general, and furthers the objectives of section 6(b)(4),⁹ in particular, as it is designed to provide for the equitable allocation of reasonable dues, fees and other charges among its Members and other persons using its facilities because it would delete fees for products that are to be discontinued by the Exchange, thereby eliminating investor confusion. In addition, the Exchange has no subscribers to either of the Private Labeled Products, neither of the Private Labeled Products is a core product offering by the Exchange, and the Exchange is not required by the Act to offer such products. The proposed rule change will not permit unfair discrimination among customers, brokers, or dealers because the Private Labeled Products will no longer be offered by the Exchange.

⁸ 15 U.S.C. 78f.

⁹ 15 U.S.C. 78f(b)(4).

Lastly, the Exchange also believes that the proposed amendment to its Fee Schedule is reasonable and non-discriminatory because it will apply uniformly to all members.

B. Self-Regulatory Organization's Statement on Burden on Competition

The Exchange does not believe its proposed amendments to its Fee Schedule would impose any burden on competition that is not necessary or appropriate in furtherance of the purposes of the Act. The proposed rule change will terminate the Revenue Sharing Program with IDC, as well as the fees for the products offered thereunder from its fee schedule, effective as of August 29, 2015, and is not designed to have a competitive impact. Therefore, the Exchange does not believe the proposed rule change will have any effect on competition.

C. Self-Regulatory Organization's Statement on Comments on the Proposed Rule Change Received From Members, Participants, or Others

The Exchange has not solicited, and does not intend to solicit, comments on this proposed rule change. The Exchange has not received any unsolicited written comments from Members or other interested parties.

III. Date of Effectiveness of the Proposed Rule Change and Timing for Commission Action

The foregoing rule change has become effective pursuant to section 19(b)(3)(A) of the Act ¹⁰ and paragraph (f) of Rule 19b-4 thereunder.¹¹ At any time within 60 days of the filing of the proposed rule change, the Commission summarily may temporarily suspend such rule change if it appears to the Commission that such action is necessary or appropriate in the public interest, for the protection of investors, or otherwise in furtherance of the purposes of the Act.

¹⁰ 15 U.S.C. 78s(b)(3)(A).

¹¹ 17 CFR 240.19b-4(f).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-BATS-2015-60 on the subject line.

Paper Comments

• Send paper comments in triplicate to Secretary, Securities and Exchange Commission, 100 F Street NE., Washington, DC 20549-1090.

All submissions should refer to File Number SR-BATS-2015-60. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of the filing also will be available for inspection and copying at the principal office of the Exchange. All comments received will be posted without change; the Commission does not edit personal identifying information from submissions. You should submit only information that you wish to make available publicly. All submissions should refer to File Number SR-BATS-2015-60, and should be submitted on or before September 14, 2015.

¹² 17 CFR 200.30-3(a)(12).

For the Commission, by the Division of Trading and Markets, pursuant to delegated authority.¹²
Robert W. Errett,
Deputy Secretary.

[FR Doc. 2015-20790 Filed 8-21-15; 8:45 am]

BILLING CODE 8011-01-P